ENVIRONMENTAL PROTECTION AGENCY

[FRL-9123-2]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et. seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2014.04; Reporting and Recordkeeping Requirements of the HCFC Allowance System (Renewal); 40 CFR part 82, subpart A; was approved on 02/01/2010; OMB Number 2060-0498; expires on 02/28/2013; Approved with change.

EPA ICR Number 2335.02; Emission Guidelines for Hospital/Medical/Infectious Waste Incinerators; 40 CFR part 60, subpart Ce; was approved on 02/02/2010; OMB Number 2060-0628; expires on 02/28/2013; Approved without change.

EPA ICR Number 1062.12; NSPS for Coal Preparation and Processing Plants; 40 CFR part 60, subpart Y; was approved on 02/02/2010; OMB Number 2060-0122; expires on 02/28/2013; Approved without change.

EPA ICR Number 2193.02; Energy Star Program in the Residential Sector (Renewal); was approved on 02/02/2010; OMB Number 2060-0586; expires on 02/28/2013; Approved with change.

EPA ICR Number 2055.03; Data Submissions for the Voluntary Children's Chemical Evaluation Program (VCCEP); 40 CFR part 790; was approved on 02/11/2010; OMB Number 2070-0165; expires on 02/28/2013; Approved without change.

EPA ICR Number 1487.10; Cooperative Agreements and Superfund State Contracts for Superfund Response Actions (Renewal); 40 CFR part 35, subpart O; was approved on 02/18/2010; OMB Number 2050-0179; expires on 02/28/2013; Approved without change.

EPA ICR Number 2334.02; NESHAP for Petroleum Refineries (Final Rule); 40 CFR part 63, subpart A and 40 CFR part 63, subpart CC; was approved on 02/18/2010; OMB Number 2060-0619; expires on 02/28/2013; Approved without change.

EPA ICR Number 2323.02; National Emission Standards for Hazardous Air Pollutants for Chemical Manufacturing Area Sources (Final Rule); 40 CFR part 63, subpart A and 40 CFR part 63, subpart VVVVVV; was approved on 02/18/2010; OMB Number 2060-0621; expires on 02/28/2013; Approved without change.

EPA ICR Number 1800.06; Information Requirements for Locomotives and Locomotive Engines (Renewal); 40 CFR parts 92.203, 92.208, 92.210, 92.215, 92.306, 92.308, 92.309, 92.309, 92.508, 92.509, 92.511-92.513, and 92.607; was approved on 02/19/2010; OMB Number 2060-0392; expires on 02/28/2013; Approved without change.

EPA ICR Number 1847.05; Emission Guidelines for Large Municipal Waste Combustors Constructed on or Before September 20, 1994; 40 CFR part 60, subpart Cb; was approved on 02/19/2010; OMB Number 2060-0390; expires on 02/28/2013; Approved without change.

EPA ICR Number 2343.01; Focus Group Research for Fuel Economy Label Designs for Advanced Technology Vehicles (New Collection); was approved on 02/25/2010; OMB Number 2060-0632; expires on 05/31/2010; Approved with change.

EPA ICR Number 1573.12; Part B Permit Application, Permit Modifications and Special Permits (Renewal); 40 CFR part 264 and 40 CFR part 270; was approved on 02/26/2010; OMB Number 2050-0009; expires on 02/28/2013; Approved without change.

EPA ICR Number 2348.02; NESHAP for Paints and Allied Products Manufacturing Area Source Category; 40 CFR part 63, subpart A and 40 CFR part 63, subpart CCCCCCC; was approved on 02/26/2010; OMB Number 2060-0633; expires on 02/28/2013; Approved without change.

EPA ICR Number 2352.02; NESHAP for Asphalt Processing and Asphalt Roofing Manufacturing; 40 CFR part 63, subpart A and 40 CFR part 63, subpart AAAAAAA; was approved on 02/26/2010; OMB Number 2060-0634; expires on 02/28/2013; Approved without change.

EPA ICR Number 2279.02; National Primary Drinking Water Regulations: Aircraft Drinking Water Rule; 40 CFR part 141; was approved on 02/25/2010; OMB Number 2040-0277; expires on 02/28/2013; Approved without change.

EPA ICR Number 1969.04; NESHAP for Miscellaneous Organic Chemical Manufacturing; 40 CFR part 63, subpart FFFF; was approved on 02/26/2010; OMB Number 2060-0533; expires on 02/28/2013; Approved without change.

Comment Filed

EPA ICR Number 0783.56; Certification and In-use Testing of Motor Vehicles: Revisions to Reduce Emissions of Greenhouse Gasses (Proposed Rule); in 40 CFR parts 85 and 86, 40 CFR 86.412, 40 CFR 86.1845, 40 CFR 85.1901-1908, 40 CFR part 600,; OMB filed comment on 02/19/2010.

EPA ICR Number 2326.01; Effluent Guidelines and Standards for the Airport Deicing Category (Proposed Rule); in 40 CFR part 449; OMB filed comment on 02/25/2010. EPA ICR Number 1715.11; Opt-out and Recordkeeping Proposed Rule ICR Addendum; in 40 CFR part 745, subpart L, 40 CFR 745.225; OMB filed comment on 02/26/2010.

EPA ICR Number 1361.14; Withdrawing the Comparable Fuels Exclusion under RCRA (Proposed Rule); in 40 CFR 261.38; OMB filed comment on 02/26/2010.

Short Term Extensions of Expiration Date

EPA ICR Number 1363.20; Toxic Chemical Release Reporting (Form R); 40 CFR 372; OMB Number 2025-0009; expires on 07/31/2011; a short term extension of the expiration date was approved on 02/17/2010.

EPA ICR Number 1704.12; Toxic Chemical Release Reporting, Alternate Threshold for Low Annual Reportable Amounts (Form A); 40 CFR 372; OMB Number 2025-0010; expires on 07/31/2011; a short term extension of the expiration date was approved on 02/17/2010.

Dated: March 1, 2010.
John Moses,
Director, Collections Strategies Division.

[FR Doc. 2010-4698 Filed 3-4-10; 8:45 am]

BILLING CODE 6560-50-P